DEPARTMENT OF JUSTICE

[AAG/A Order No. 253-2001]

Privacy Act of 1974; System of Records

Pursuant to the Privacy Act of 1974 (5 U.S.C. 552a), notice is hereby given that the Civil Division, Department of Justice, is establishing a new system of records entitled “September 11th Victim Compensation Fund of 2001 File System,” Civil Division (CIV), JUSTICE/CIV-008.

The September 11th Victim Compensation Fund of 2001 File System is a system of records established to support the administration of the program to compensate individuals who were physically injured or the personal representatives of those who were killed as a result of the terrorist-related aircraft crashes of September 11, 2001. The system is being established to enable the prompt adjudication of these claims.

By law, regulations addressing certain administrative matters for the September 11th Victim Compensation Fund of 2001 must be issued by December 21, 2001. This notice is published in accordance with that statutory requirement. It is likely that amendments to this notice, including routine uses, will be published at a later date, with the opportunity to comment.

The Department is providing a report to OMB and the Congress.

Dated: December 18, 2000.
Janis Sposato,
Acting Assistant Attorney General for Administration.

Justice/CIV-008

System Name:

September 11th Victim Compensation Fund of 2001 File System.

Security Classification:

None.

System Location:

Civil Division, U.S. Department of Justice, 950 Pennsylvania Avenue, NW., Washington, DC 20530; Department of Justice—Records Management Unit, 2711 Prosperity Avenue, Fairfax, VA 22031; and Federal Records Center, Suitland, MD 20409.

Categories of Individuals Covered by the System:

Individuals who claim benefits under the September 11th Victim Compensation Fund of 2001 (i.e. individuals claiming to have suffered physical injury or the personal representatives of individuals who were killed as a result of the terrorist-related aircraft crashes of September 11, 2001).

Categories of Records in the System:

Records in this system include: Claim forms filed by or on behalf of claimants seeking benefits under the Fund; documents submitted in support of the claims; medical, personal, employment, financial, and other records obtained or generated to adjudicate the claims.

AUTHORITY FOR MAINTENANCE OF THE SYSTEM:

September 11th Victim Compensation Fund of 2001 enacted into law as Title IV of Pub. L. 107-42, 115 Stat. 230 (“Air Transportation Safety and System Stabilization Act”).

PURPOSES:

These records are collected or generated for the purpose of determining qualification of and/or compensation to claimants under the September 11th Victim Compensation Fund of 2001.

ROUTINE USES OF RECORDS MAINTAINED IN THE SYSTEM, INCLUDING CATEGORIES OF USERS AND THE PURPOSE OF SUCH USES:

It is likely that routine uses will be published at a later date with an opportunity for comment. In the interim, disclosures necessary to process claims will be made only with the written consent of claimants.

DISCLOSURE TO CONSUMER REPORTING AGENCIES:

None.

POLICIES AND PRACTICES FOR STORING, RETRIEVING, ACCESSING, RETAINING AND DISPOSING OF RECORDS IN THE SYSTEM:

STORAGE:

Paper case files are maintained in filing cabinets. Automated data, including case files that have been transformed into electronic form, are stored on computer discs or magnetic tapes, which are also stored in cabinets.

RETRIEVABILITY:

Files and automated data are retrieved by name of a claimant or personal representative of a claimant, the name of the deceased, case file number and/or Social Security Number.

SAFEGUARDS:

Files and automated data are maintained under supervision of Civil Division personnel, the Special Master, or their contractors. During working hours—only authorized personnel, with the appropriate password may handle, retrieve, or disclose any information contained therein. Access to electronic records is controlled by password or other user identification code.

RETENTION AND DISPOSAL:

All claim files and automated data pertaining to a claim are destroyed 10 years after the date the claim has been fully adjudicated and/or payment made, as approved by the National Archives and Records Administration. Paper files that have been scanned to create electronic copies may be destroyed after the copies are verified. Automated data is retained in its most current form only, however, and as information is updated, outdated information is deleted.

SYSTEM MANAGER(S) AND ADDRESS:

Office of the Assistant Attorney General, Civil Division, 950 Pennsylvania Avenue, NW, Washington, DC 20530.

NOTIFICATION PROCEDURES:

Address inquiries to: Office of the Assistant Attorney General, Civil Division, 950 Pennsylvania Avenue, NW, Washington, DC 20530.

RECORD ACCESS PROCEDURES:

Any individual seeking access to information about a claim in which he/she is a party in interest may write to the Office of the Assistant Attorney General, Civil Division, 950 Pennsylvania Avenue, NW, Washington, DC 20530. The request should state what records are sought and must include the requester's full name, current address, and claim file number (if known). The request must be signed before a notary or submitted under penalty of perjury.

CONTESTING RECORD PROCEDURES:

Individuals desiring to contest or amend information maintained in the system should direct their request to the Office of the Assistant Attorney General, Civil Division, 950 Pennsylvania Avenue, NW, Washington, DC 20530. The request should clearly and concisely state what information is being contested, the reason(s) for contesting it, and the proposed amendment to the record.

RECORD SOURCE CATEGORIES:

Individuals or entities having information pertinent to the adjudication of compensation claims, including but not limited to: Injured individuals; personal representatives of deceased individuals; eligible claimants; family members; physicians and other medical professionals, hospitals, and clinics; insurers, employers, and their agents and representatives.

SYSTEMS EXEMPTED FROM CERTAIN PROVISIONS OF THE ACT:

None.

[FR Doc. 01-31461 Filed 12-18-01; 12:28 pm]

BILLING CODE 4410-12-P